DEPARTMENT OF HEALTH AND HUMAN SERVICES

Administration for Children and Families

Proposed Information Collection Activity; Annual Report on Children in Foster Homes and Children in Families Receiving Payments in Excess of the Poverty Income Level From a State Program Funded Under Part A of Title IV of the Social Security Act (Office of Management and Budget #: 0970-0004)

AGENCY: Office of Family Assistance, Administration for Children and Families, U.S. Department of Health and Human Services.

ACTION: Request for public comments.

SUMMARY: The Office of Family Assistance (OFA), Administration for Children and Families (ACF) is requesting a three-year extension of the form ACF-4125: Annual Report on Children in Foster Homes and Children in Families Receiving Payment in Excess of the Poverty Income Level from a State Program Funded Under Part A of Title IV of the Social Security Act (Office of Management and Budget #: 0970-0004, expiration 6/30/2024). There are no changes requested to the form.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The Elementary and Secondary Education Act of 1965 (ESEA), section 1124 of title I, as amended by Public Law 114-95, requires the Secretary of Health and Human Services to determine the number of children aged 5 to 17, inclusive, that (1) are being supported in foster homes with public funds; or (2) are from families receiving assistance payments in excess of the current poverty income level for a family of four. The information gathered is to be passed on to the Secretary of Education for purposes of allocating grants authorized under this law. The statute requires that the formula to allocate these grants and distribute funds be based, in part, on October caseload data on the number of children in foster care or in families receiving payments from state programs funded under Title IV-a of the Social Security Act [Temporary Assistance for Needy Families (TANF)]. The purpose of this annual survey is to provide annually updated data so that funds may be allocated in accordance with the ESEA.

Respondents: State agencies (including the District of Columbia and Puerto Rico) administering child welfare and public assistance programs.

Annual Burden Estimates
Instrument | Total number of respondents | Annual number of responses per respondent | Average burden hours per response | Annual burden hours
Annual Report on Children in Foster Homes and Children Receiving Payments | 52 | 1 | 264.35 | 13,746.20

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 20 U.S.C. 6333; 42 U.S.C. 613.

Mary C. Jones,
ACF/OPRE Certifying Officer.

[FR Doc. 2024-05713 Filed 3-15-24; 8:45 am]

BILLING CODE 4184-36-P